ENVIRONMENTAL PROTECTION AGENCY

[OPPTS-51949; FRL-6741-5]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from June 26, 2000 to July 7, 2000, consists of the PMNs, both pending or expired, and the notices of commencement to manufacture a new chemical that the Agency has received under TSCA section 5 during this time period.

ADDRESSES: Comments may be submitted by mail, electronically, or in person. Please follow the detailed instructions for each method as provided in Unit I. of the SUPPLEMENTARY INFORMATION. To ensure proper receipt by EPA, it is imperative that you identify docket control number OPPTS-51949 and the specific PMN number in the subject line on the first page of your response.

FOR FURTHER INFORMATION CONTACT: Barbara Cunningham, Director, Office of Program Management and Evaluation, Office of Pollution Prevention and Toxics (7401), Environmental Protection Agency, 1200 Pennsylvania Ave., NW., Washington, DC 20460; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. How Can I Get Additional Information, Including Copies of this Document and Other Related Documents?

1. Electronically. You may obtain copies of this document and certain other available documents from the EPA Internet Home Page at http://www.epa.gov/. On the Home Page select “Laws and Regulations”,” Regulations and Proposed Rules, and then look up the entry for this document under the “Federal Register—-Environmental Documents.” You can also go directly to the Federal Register listings at http://www.epa.gov/fedrgstr/.

2. In person. The Agency has established an official record for this action under docket control number OPPTS-51949. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the TSCA Nonconfidential Information Center, North East Mall Rm. B- 607, Waterside Mall, 401 M St., SW., Washington, DC. The Center is open from noon to 4 p.m., Monday through Friday, excluding legal holidays. The telephone number of the Center is (202) 260-7099.

C. How and to Whom Do I Submit Comments?

You may submit comments through the mail, in person, or electronically. To ensure proper receipt by EPA, it is imperative that you identify docket control number OPPTS-51949 and the specific PMN number in the subject line on the first page of your response.

1. By mail. Submit your comments to: Document Control Office (7407), Office of Pollution Prevention and Toxics (OPPT), Environmental Protection Agency, 1200 Pennsylvania Ave., NW., Washington, DC 20460.

2. In person or by courier. Deliver your comments to: OPPT Document Control Office (DCO) in East Tower Rm. G-099, Waterside Mall, 401 M St., SW., Washington, DC. The DCO is open from 8 a.m. to 4 p.m., Monday through Friday, excluding legal holidays. The telephone number for the DCO is (202) 260-7093.

3. Electronically. You may submit your comments electronically by e-mail to: “oppt.ncic@epa.gov,” or mail your computer disk to the address identified in this unit. Do not submit any information electronically that you consider to be CBI. Electronic comments must be submitted as an ASCII file avoiding the use of special characters and any form of encryption. Comments and data will also be accepted on standard disks in WordPerfect 6.1/8.0 or ASCII file format. All comments in electronic form must be identified by docket control number OPPTS-51949 and the specific PMN number. Electronic comments may also be filed online at many Federal Depository Libraries

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this document.

8. To ensure proper receipt by EPA, be sure to identify the docket control number assigned to this action in the subject line on the first page of your response. You may also provide the name, date, and Federal Register citation.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from June 26, 2000 to July 7, 2000, consists of the PMNs, both pending or expired, and the notices of commencement to manufacture a new chemical that the Agency has received under TSCA section 5 during this time period.

III. Receipt and Status Report for PMNs

This status report identifies the PMNs, both pending or expired, and the notices of commencement to manufacture a new chemical that the Agency has received under TSCA section 5 during this time period. If you are interested in information that is not included in the following tables, you may contact EPA as described in Unit II. to access additional non-CBI information that may be available.

In table I, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 41 Premanufacture Notices Received From: 06/26/00 to 07/07/00
Case No. | Received Date | Projected Notice End Date | Manufacturer/Importer | Use | Chemical
P-00-0967 | 06/27/00 | 09/25/00 | CBI | (S) Resin for coatings | (G) Polyurethane resin
P-00-0968 | 06/27/00 | 09/25/00 | CBI | (S) Resin for coatings | (G) Polyurethane resin
P-00-0969 | 06/27/00 | 09/25/00 | CBI | (S) Resin for coatings | (G) Polyurethane resin
P-00-0970 | 06/27/00 | 09/25/00 | CBI | (S) Resin for coatings | (G) Polyurethane resin
P-00-0971 | 06/26/00 | 09/24/00 | CIBA Spec.Chem. Corp., Consumer Care Div. | (S) Direct dye for coloring of paper | (G) Benzenesulfonic acid, 3,3′-[[6-[substituted]-1,3,5-triazine-2,4-diyl]bis[imino(3-alkoxy-4,1-phenylene)azo]]bis-, lithium,sodium salt
P-00-0972 | 06/26/00 | 09/24/00 | CIBA Spec. Chem. Corp., Consumer Care Div. | (S) Direct dye for coloring of paper | (G) Benzenesulfonic acid, 3,3′-[[6-[substituted]-1,3,5-triazine-2,4-diyl]bis[imino(3-alkoxy-4,1-phenylene)azo]]bis-, lithium,sodium salt
P-00-0973 | 06/26/00 | 09/24/00 | CIBA Spec. Chem. Corp., Consumer Care Div. | (S) Direct dye for coloring of paper | (G) Benzenesulfonic acid, 3,3′-[[6-[substituted]-1,3,5-triazine-2,4-diyl]bis[imino(3-alkoxy-4,1-phenylene)azo]]bis-, lithium,sodium salt
P-00-0974 | 06/26/00 | 09/24/00 | CBI | (G) Synthetic paper size emulsifier | (G) Modified cationic acrylamide polymer
P-00-0975 | 06/27/00 | 09/25/00 | CBI | (S) Resin for coatings | (G) Polyester resin
P-00-0976 | 06/27/00 | 09/25/00 | CBI | (S) Resin for coatings | (G) Polyester resin
P-00-0977 | 06/27/00 | 09/25/00 | CBI | (S) Resin for coatings | (G) Polyester resin
P-00-0978 | 06/27/00 | 09/25/00 | CBI | (S) Resin for coatings | (G) Polyester resin
P-00-0979 | 06/26/00 | 09/24/00 | CBI | (S) Used in ultra-violet and electron-beam radiation curing;coatings for wood, wood-based materials, paper and plastics | (G) Urethane acrylate
P-00-0980 | 06/26/00 | 09/24/00 | CBI | (S) Used in ultra-violet and electron-beam radiation curing;coatings for wood, wood-based materials, paper and plastics | (G) Urethane acrylate
P-00-0981 | 06/26/00 | 09/24/00 | H.B. Fuller Company | (S) Film laminating adhesive for packaging and converting;volumes and use pertaining to each substance of pmn separately | (G) Polyether polyurethane polymer
P-00-0982 | 06/26/00 | 09/24/00 | H.B. Fuller Company | (S) Film laminating adhesive for packaging and converting;volumes and use pertaining to each substance of pmn separately | (G) Polyether polyurethane polymer
P-00-0983 | 06/26/00 | 09/24/00 | H.B. Fuller Company | (S) Film laminating adhesive for packaging and converting;volumes and use pertaining to each substance of pmn separately | (G) Polyether polyurethane polymer
P-00-0984 | 06/26/00 | 09/24/00 | H.B. Fuller Company | (S) Film laminating adhesive for packaging and converting; volumes and use pertaining to each substance of pmn separately | (G) Polyether polyurethane polymer
P-00-0986 | 06/26/00 | 09/24/00 | Mitsui & Co., (U.S.A.) Inc. | (S) Component of a catalyst mixture | (G) Dialkyl diether
P-00-0987 | 06/27/00 | 09/25/00 | Solutia Inc. | (S) Binder for automotive coating | (G) Acrylic copolymer in water based emulsion
P-00-0988 | 06/27/00 | 09/25/00 | Solutia Inc. | (S) Paint resin | (G) Polyester, hydroxy functional
P-00-0989 | 06/27/00 | 09/25/00 | CBI | (G) Open, non-dispersive use. | (G) Hydroxy functional acrylic polymer.
P-00-0990 | 06/27/00 | 09/25/00 | CBI | (S) Spray applied automotive coatings | (G) Amine salt of polyurethane resin
P-00-0991 | 06/27/00 | 09/25/00 | CBI | (G) Manufacturing of composites | (G) Formaldehyde, (chloromethyl)oxirane/phenol polymer, modified with organophsophorous derivative*
P-00-0992 | 06/27/00 | 09/25/00 | CBI | (G) Manufacturing of composites | (G) Formaldehyde, (chloromethyl)oxirane/phenol polymer, modified with organophosphorous derivative
P-00-0993 | 06/28/00 | 09/26/00 | Vantico Inc. | (S) Resin for structural composites;resin for electronic laminates | (G) Substituted 6,6′-(1-methylethylidene)bis[3,4-dihydro-3-phenyl,1,3-benzoxazine]
P-00-0994 | 06/30/00 | 09/28/00 | Eastman Kodak Company | (G) Chemical intermediate, destructive use | (G) Amino substituted aromatic acid derivative
P-00-0995 | 06/27/00 | 09/25/00 | CBI | (G) Polyester resin | (G) Polyester resin
P-00-0996 | 06/27/00 | 09/25/00 | CBI | (G) Polyester resin | (G) Polyester resin
P-00-0997 | 07/03/00 | 10/01/00 | Dystar L. P. | (S) Coloration of cellulosic fibers | (G) 2-naphthalenesulfonic acid, 6-(substituted)-4-substituted-3-[[4-[[2-(sulfooxy)ethyl]sulfonyl]phenyl]azo]-, salt
P-00-0998 | 07/03/00 | 10/01/00 | CBI | (G) Open,non-dispersive (resin) | (G) Polyvinyl cinnamate naphthoate
P-00-0999 | 07/05/00 | 10/03/00 | CBI | (S) Paper dye | (G) Triphenylmethane derivative
P-00-1000 | 06/29/00 | 09/27/00 | Reichhold, Inc. | (G) Hot melt polyurethane adhesive | (G) Isocyanate functional polycaprolactone- polyester-polyether-urethane polymers
P-00-1001 | 07/05/00 | 10/03/00 | CBI | (G) Additive to security inks dispersive use | (G) Dispersive Use
P-00-1002 | 07/06/00 | 10/04/00 | Shin-Etsu Silicones of America, Inc | (S) Additive for epoxy resin compounds | (S) Siloxanes and silicones, di-me, me hydrogen, polymers with me silsesquioxanes and vinyl group-terminated di-me siloxanes*
P-00-1003 | 07/05/00 | 10/03/00 | 3M company | (S) Fiber treatment | (G) Aliphatic urethane
P-00-1004 | 07/06/00 | 10/04/00 | CBI | (G) Resin coating | (G) Polyester resin
P-00-1005 | 07/06/00 | 10/04/00 | CBI | (G) Resin coating | (G) Polyester resin
P-00-1006 | 07/06/00 | 10/04/00 | Reichhold, Inc. | (G) Hot melt polyurethane adhesive | (G) Isocyanate functional polycaprolactone - polyester -polyether - urethane polymers
P-00-1007 | 07/05/00 | 10/03/00 | CBI | (G) Open, non-dispersive use as a constituent in solid, crayon like inks for computer printers | (G) Colored aliphatic urethane
P-00-1008 | 07/06/00 | 10/04/00 | CBI | (G) Coating component | (G) Multifunctional polycarbodiimide

In table II, EPA provides the following information (to the extent that such information is not claimed as CBI) on the Notices of Commencement to manufacture received:

II. 20 Notices of Commencement From: 06/26/00 to 07/07/00
Case No. | Received Date | Commencement/Import Date | Chemical
P-00-0031 | 06/26/00 | 06/01/00 | (G) Sulfonyl urea
P-00-0069 | 07/05/00 | 06/04/00 | (G) Nitrated, sulfonated aromatic acid chloride
P-00-0070 | 07/05/00 | 06/12/00 | (G) Nitrated, sulfonated aromatic compounds
P-00-0331 | 07/06/00 | 06/15/00 | (G) Vinylpyrrolidone vinylester copolymer
P-00-0378 | 07/06/00 | 06/06/00 | (G) Polyester-polyurethane-elastomer dispersion
P-00-0405 | 06/28/00 | 06/12/00 | (S) Benzenesufonic acid, bis (1-methylethyl)-, sodium salt*
P-00-0433 | 07/05/00 | 06/18/00 | (G) Amine neutralized phosphated polyester
P-00-0457 | 06/26/00 | 06/01/00 | (G) Modified polyethercarboxylate
P-00-0458 | 06/26/00 | 06/01/00 | (G) Modified polyethercarboxylate
P-00-0459 | 06/26/00 | 06/01/00 | (G) Modified polyethercarboxylate
P-00-0460 | 06/26/00 | 06/01/00 | (G) Modified polyethercarboxylate
P-00-0461 | 06/26/00 | 06/01/00 | (G) Modified polyethercarboxylate
P-00-0462 | 06/26/00 | 06/01/00 | (G) Modified polyethercarboxylate
P-00-0474 | 06/27/00 | 06/20/00 | (G) 2-propenoic acid, 2-methyl-, 2-(dimethylamino)ethyl ester, polymer with methyl 2-methyl-2-propenoate, acid salt
P-96-0355 | 06/27/00 | 06/13/00 | (G) 2-butanone oxime blocked isocyanate
P-97-0613 | 07/05/00 | 06/25/00 | (G) Organofunctional silicone silsesquioxane copolymer
P-98-1221 | 07/03/00 | 06/27/00 | (G) Sulfonated polyester diol
P-99-0078 | 07/05/00 | 06/13/00 | (G) Acrylic polymer
P-99-0314 | 07/05/00 | 02/23/00 | (G) Amino functional polyether functional silicone terpolymer
P-99-0905 | 07/03/00 | 06/27/00 | (G) Alkylbenzene

List of Subjects

Environmental protection, Chemicals, Premanufacturer notices.

Dated: August 29, 2000.
Edward Gross,
Acting Director, Information Management Division, Office of Pollution Prevention and Toxics.

[FR Doc. 00-22821 Filed 9-5-00; 8:45 am]

BILLING CODE6560-50-S